SECURITIES AND EXCHANGE COMMISSION

[File No. 500-1]

In the Matter of Imaging Diagnostic Systems, Inc.; Order of Suspension of Trading

May 8, 2014.

It appears to the Securities and Exchange Commission that there is a lack of current and accurate information concerning the securities of Imaging Diagnostic Systems, Inc. (“Imaging”) because it has not filed certain periodic reports with the Commission.

The Commission is of the opinion that the public interest and the protection of investors require a suspension of trading in the securities of the above-listed company.

Therefore, it is ordered, pursuant to Section 12(k) of the Securities Exchange Act of 1934, that trading in the securities of the above-listed company is suspended for the period from 9:30 a.m. EDT, on May 8, 2014 through 11:59 p.m. EDT, on May 21, 2014.

By the Commission.
Jill M. Peterson,
Assistant Secretary.

[FR Doc. 2014-10922 Filed 5-8-14; 4:15 pm]

BILLING CODE 8011-01-P